DEPARTMENT OF THE INTERIOR

Bureau of Land Management

[NV-050-1430-ES; N-41565-30]

Notice of Realty Action: Lease/Conveyance for Recreation or Public Purposes

AGENCY: Bureau of Land Management, Interior.

ACTION: Partial assignment of 30.0 acres and change of use for recreation or public purposes lease amendment.

SUMMARY: The Clark County School District (CCSD) proposes an amendment to Recreation or Public Purposes (R&PP) Lease N-41565-30 to add 30.0 acres to an existing lease of 12.5 acres and to change the use of the lease from a maintenance facility to a high school. CCSD would acquire the additional 30.0 acres through partial assignment from Clark County's R&PP Lease N-51437 which will be a change of use from a park to a high school. The land has been examined and found suitable for lease/conveyance for recreational or public purposes under the provisions of the Recreation and Public Purposes Act, as amended (43 U.S.C. 869 et seq.).

T. 21 S., R. 60 E., M.D.M.,

Sec. 15, W½NE¼NW¼SW¼, NW¼NW¼SW¼, SW¼NW¼SW¼, W½SE¼NW¼SW¼, W½NE¼SW¼SW¼, E½NW¼SW¼SW¼, NW¼NW¼SW¼SW¼.

Containing 42.5 acres, more or less, located at the corner of Buffalo Drive and Twain Avenue.

The land is not required for any federal purpose. The lease/conveyance is consistent with current Bureau planning for this area and would be in the public interest. The lease/patent, when issued, will be subject to the provisions of the Recreation and Public Purposes Act and applicable regulations of the Secretary of the Interior and will contain the following reservations to the United States:

1. A right-of-way thereon for ditches or canals constructed by the authority of the United States, Act of August 30, 1890 (43 U.S.C. 945).

2. All minerals shall be reserved to the United States, together with the right to prospect for, mine, and remove such deposits from the same under applicable law and such regulations as the Secretary of the Interior may prescribe and will be subject to:

1. Easements in accordance with the Clark County Transportation Plan.

2. Those rights for water line purposes which have been granted to the Las Vegas Valley Water District by Permit No. N-24659 under the Act of October 21, 1976 (43 U.S.C. 1761).

3. Those rights for power and telephone line purposes which have been granted to Nevada Power Company and Sprint Central by Permit N-24663 under the Act of October 21, 1976 (43 U.S.C. 1761).

4. Those rights for power and telephone line purposes which have been granted to Nevada Power Company and Sprint Central by Permit N-58098 under the Act of October 21, 1976 (43 U.S.C. 1761).

5. Those rights for power line purposes which have been granted to the Nevada Power Company by Permit No. N-59318 under the Act of October 21, 1976 (43 U.S.C. 1761).

6. Those rights for roadway purposes which have been granted to Clark County by Permit N-59691 under the Act of October 21, 1976 (43 U.S.C. 1761).

Detailed information concerning this action is available for review at the office of the Bureau of Land Management, Las Vegas Field Office, 4765 Vegas Drive, Las Vegas, Nevada or by calling (702) 647-5088.

Application Comments

For a period of 45 days from the date of publication of this notice in the Federal Register, interested parties may submit comments regarding the proposed lease/conveyance for a high school to the Las Vegas Field Manager, Las Vegas Field Office, 4765 Vegas Drive, Las Vegas, Nevada 89108. Interested parties may submit comments regarding the specific use proposed in the application and plan of development, whether the BLM followed proper administrative procedures in reaching the decision, or any other factor directly related to the suitability of the land for a high school. Any adverse comments will be reviewed by the State Director who may sustain, vacate, or modify this realty action. In the absence of any adverse comments, these realty actions will become the final determination of the Department of the Interior.

Dated: December 14, 2001.
Rex Wells,
Assistant Field Manager, Division of Lands, Las Vegas, NV.

[FR Doc. 02-83 Filed 1-2-02; 8:45 am]

BILLING CODE 4310-HC-P